DEPARTMENT OF COMMERCE

Foreign-Trade Zones Board

[Order No. 1337]

Approval for Expanded Manufacturing Authority (Flavors and Fragrances) Within Foreign-Trade Subzones 44B, 44C and 44D, International Flavors & Fragrances, Inc.; Hazlet, Union Beach and Dayton, NJ

Pursuant to its authority under the Foreign-Trade Zones Act of June 18, 1934, as amended (19 U.S.C. 81a-81u), the Foreign-Trade Zones Board (the Board) adopts the follow Order:

Whereas, the NJ Commerce & Economic Growth Commission, grantee of FTZ 44, has applied to expand the scope of manufacturing authority under FTZ procedures for FTZ Subzones 44B, 44C and 44D (International Flavors & Fragrances, Inc. Facilities in Hazlet, Union Beach and Dayton, New Jersey); to remove the special conditions of Board Order 366 (52 FR 47437, 12/14/87); to re-designate Subzones 44B, 44C and 44D as Subzone 44B; and, to reduce the acreage of Subzone 44C (FTZ Doc. 59-2003; filed 11/4/03);

Whereas, notice inviting public comment has been given in the Federal Register (68 FR 65244, 11/19/03); and,

Whereas, the Board adopts the findings and recommendations of the examiner's report, and finds that the requirements of the FTZ Act and the Board's regulations are satisfied, and that approval of the application is in the public interest;

Now, Therefore, the Board hereby approves the request subject to the FTZ Act and the Board's regulations, including § 400.28.

Signed at Washington, DC, this 3rd day of June 2004.
James J. Jochum,
Assistant Secretary of Commerce for Import Administration, Alternate Chairman, Foreign-Trade Zones Board.

[FR Doc. 04-13493 Filed 6-15-04; 8:45 am]

BILLING CODE 3510-DS-P